DEPARTMENT OF LABOR

Employment and Training Administration

[TA-W-64,805]

Lane Home Furnishing (Wren), Tupelo, MS; Notice of Termination of Investigation

Pursuant to Section 221 of the Trade Act of 1974, as amended, an investigation was initiated on January 2, 2009 in response to a petition filed on behalf of workers of Lane Home Furnishing (Wren), Tupelo, Mississippi.

The petitioning worker group is included in an earlier petition (TA-W-64,749) filed on December 17, 2008, that is the subject of an ongoing investigation for which a determination has not yet been issued. Further investigation in this case would duplicate efforts and serve no purpose; therefore the investigation under this petition has been terminated.

Signed at Washington, DC this 16th day of January 2009.
Linda G. Poole,
Certifying Officer, Division of Trade Adjustment Assistance.

[FR Doc. E9-1499 Filed 1-23-09; 8:45 am]

BILLING CODE 4510-FN-P